FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 019152F.

Name: Accel Product Company dba Accel International.

Address: 8888 Keystone Crossing, Ste. 1300, Indianapolis, IN 46240.

Date Revoked: April 4, 2008.

Reason: Failed to maintain a valid bond.

License Number: 019764N.

Name: Altorky Group Inc. dba In & Out Cargo.

Address: 2323 S. Voss, #203-C1, Houston, TX 77057.

Date Revoked: April 28, 2008.

Reason: Failed to maintain a valid bond.

License Number: 020379F.

Name: AMR Investments Inc. dba AMR.

Address: 547 Boulevard, Kenilworth, NJ 07033.

Date Revoked: April 30, 2008.

Reason: Surrendered license voluntarily.

License Number: 017061F.

Name: COR Logistics, Inc.

Address: 17950 Dix Toledo Rd., Brownstown, MI 48192.

Date Revoked: April 30, 2008.

Reason: Failed to maintain a valid bond.

License Number: 003213F.

Name: Fracht FWO Inc.

Address: 633 West Century Blvd., Ste. 670, 6th Fl., Los Angeles, CA 90045.

Date Revoked: April 30, 2008.

Reason: Failed to maintain a valid bond.

License Number: 017275NF.

Name: Hoosier Forwarding, LLC.

Address: 3580 Blackthorn Court, South Bend, IN 46628.

Date Revoked: April 17, 2008.

Reason: Surrendered license voluntarily.

License Number: 020534N.

Name: Quisqueyana Express, Inc.

Address: 4468 Broadway, New York, NY 10040.

Date Revoked: April 8 2008.

Reason: Surrendered license voluntarily.

License Number: 016784N.

Name: 7M Transport, Inc.

Address: 18602 Spring Heather Ct., Spring, TX 33739-2778.

Date Revoked: April 17, 2008.

Reason: Surrendered license voluntarily.

Sandra L. Kusumoto,
Director, Bureau of Certification and Licensing.

[FR Doc. E8-10788 Filed 5-13-08; 8:45 am]

BILLING CODE 6730-01-P